DEPARTMENT OF ENERGY

Federal Energy Regulatory Commission

[Docket No. EC04-128-000, et al.]

EK Holding I, LLC, et al.; Electric Rate and Corporate Filings

July 30, 2004.

The following filings have been made with the Commission. The filings are listed in ascending order within each docket classification.

1. EK Holding I, LLC; EK Holding III, LLC

[Docket No. EC04-128-000]

Take notice that on July 21, 2004, EK Holding I, LLC and EK Holding III, LLC submitted a Notice of Withdrawal of their July 6, 2004, application in the above-referenced proceeding.

Comment Date: 5 p.m. eastern time on August 11, 2004.

2. AES Londonderry, LLC; Granite Ridge I SPE LLC

[Docket No. EC04-138-000]

Take notice that on July 28, 2004, AES Londonderry, LLC (AES Londonderry) and Granite Ridge I SPE LLC filed with the Federal Energy Regulatory Commission an application pursuant to section 203 of the Federal Power Act for authorization of an indirect disposition of certain jurisdictional facilities held by AES Londonderry to the lenders of AES Londonderry or such lenders' subsidiaries.

AES Londonderry states that a copy of the application was served upon the New Hampshire Public Utilities Commission.

Comment Date: 5 p.m. eastern time on August 18, 2004.

3. New York Independent System Operator, Inc.

[Docket Nos. EL04-115-002; ER04-983-002]

Take notice that on July 26, 2004, The New York Independent System Operator, Inc. (NYISO) hereby files a Notice of Withdrawal of its July 2, 2004, filing in Docket Nos. EL04-115-000 and ER04-983-000.

The NYISO states that it has electronically served a copy of this Notice of Withdrawal to each of its customers, each participant in its stakeholder committees and on the New York State Public Service Commission.

Comment Date: 5 p.m. eastern time on August 16, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1736 Filed 8-6-04; 8:45 am]

BILLING CODE 6717-01-P